ENVIRONMENTAL PROTECTION AGENCY

[FRL-9165-5]

Comprehensive Environmental Response, Compensation and Liability Act (CERCLA) or Superfund, Brownfields Amendments, Section 104(k); Notice of Revisions to FY2011 Guidelines for Brownfields Assessment, Revolving Loan Fund, and Cleanup Grants

AGENCY: Environmental Protection Agency (EPA).

ACTION: Notice.

SUMMARY: Section 104(k)(5)(A)(iii) of the Comprehensive Environmental Response, Compensation and Liability Act (CERCLA) requires EPA to publish guidance to assist applicants in preparing proposals for grants to assess and clean up brownfield sites. EPA's Brownfields Program provides funds to empower states, communities, tribes and nonprofits to prevent, inventory, assess, clean up and reuse brownfield sites. In FY 2011, EPA has revised the Brownfields Grant Proposal Guidelines (guidelines) and is soliciting comments on those revisions. EPA provides brownfields funding for three types of grants: Assessment, revolving loan fund and cleanup.

DATES: Publication of this notice will start a five working day comment period on revisions to the FY 2011 Brownfields Grant Guidelines. Comments will be accepted through July 2, 2010. EPA expects to release a Request for Proposals based on these revised guidelines in late summer of 2010.

ADDRESSES: The draft guidelines can be downloaded at: http://www.epa.gov/brownfields/. If you do not have Internet access and require hard copies of the draft guidelines please contact Rachel Lentz at (202) 566-2745. Please send any comments to Rachel Lentz at lentz.rachel@epa.gov no later than July 2, 2010.

FOR FURTHER INFORMATION CONTACT: The U.S. EPA's Office of Solid Waste and Emergency Response, Office of Brownfields and Land Revitalization, (202) 566-2777.

SUPPLEMENTARY INFORMATION: Comments will be accepted through July 2, 2010. Please note that in accordance with 5 U.S.C. 553(a)(2), EPA is not undertaking notice and comment rulemaking and has not established a docket to receive public comments on the guidelines. Rather, the Agency as a matter of policy is soliciting the views of interested parties on the draft FY 2011 Assessment, Revolving Loan Fund and Cleanup Guidelines. Please note that these draft guidelines are subject to change. Organizations interested in applying for Brownfields funding must follow the instructions contained in the final guidelines that EPA publishes on http://www.grants.gov, rather than these draft guidelines.

There are three types of grants that applicants may apply for under these guidelines:

1. Brownfields Assessment Grants—which provide funds to inventory, characterize, assess, and conduct area-wide planning, cleanup and redevelopment planning and community involvement related to brownfield sites.

2. Brownfields Revolving Loan Fund Grants—which provide funding for a grant recipient to capitalize a revolving loan fund and to provide subgrants to carry out cleanup activities at brownfield sites.

3. Brownfields Cleanup Grants—which provide funds to carry out cleanup activities at a specific brownfield site owned by the applicant.

(The Catalogue of Federal Domestic Assistance entry for Brownfields Grants is 66.818.)

Dated: June 16, 2010.
David R. Lloyd,
Director, Office of Brownfields and Land Revitalization, Office of Solid Waste and Emergency Response.

[FR Doc. 2010-15046 Filed 6-21-10; 8:45 am]

BILLING CODE 6560-50-P